DEPARTMENT OF HEALTH AND HUMAN SERVICES

Centers for Medicare and Medicaid Services

[Document Identifier: CMS-R-131]

Agency Information Collection Activities: Proposed Collection; Expedited Review and Clearance; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an expedited review of the information collection referenced below. In compliance with the requirement of section 3506(c)(2)(A) of the Paperwork Reduction Act of 1995, we are abbreviating the normal comment period of 60 days for the first notice to 30 days. We are requesting an expedited review because the collection of this information is needed before the expiration of the normal time limits under OMB's regulations at 5 CFR Part 1320. We cannot reasonably comply with the normal clearance procedures because to do so could have serious consequences for Medicare beneficiaries, health care providers, Medicare contractors and software vendors.

CMS is requesting OMB's expedited review and approval of this collection. Written comments and recommendations will be accepted from the public if received by the individual designated below by June 30, 2003. During this 180-day period, we will publish a separate Federal Register notice announcing the initiation of an extensive 60-day agency review and public comment period on these requirements. We will submit the requirements for OMB review and an extension of this emergency approval. Type of Information Collection Request: Extension of a currently approved collection; Title of Information Collection: Advance Beneficiary Notice; Form No.: CMS-R-131 (OMB# 0938-0566); Use: Physicians, practitioners, suppliers, and providers furnishing Part A or Part B items or services may bill a patient for items or services denied by Medicare as not reasonable and necessary if they informed the patient, before furnishing the item or service, that Medicare was likely to deny payment for the items or services and the patient, after being informed, agreed to pay for the items or services; Frequency: On occasion; Affected Public: Businesses or other for-profit, Individuals or households, Not-for-profit institutions; Number of Respondents: 1,028,585; Total Annual Responses: 19,660,110; Total Annual Hours: 1,686,285.

We have submitted a copy of this notice to OMB for its review of these information collections. A notice will be published in the Federal Register when approval is obtained.

To obtain copies of the supporting statement and any related forms for the proposed paperwork collections referenced above, access CMS' Web site address at http://www.hcfa.gov/regs/prdact95.htm, or e-mail your request, including your address, phone number, OMB number, and CMS document identifier, to Paperwork@hcfa.gov, or call the Reports Clearance Office on (410) 786-1326.

Interested persons are invited to send comments regarding the burden or any other aspect of these collections of information requirements. However, as noted above, comments on these information collection and recordkeeping requirements must be mailed and/or faxed to the designees referenced below, by June 30, 2003.

CMS, Office of Strategic Operations and Regulatory Affairs, Division of Regulations Development and Issuances, Attention: Melissa Musotto, Room: C5-14-03, 7500 Security Boulevard, Baltimore, Maryland 21244-1850.

Dated: May 12, 2003.
Julie Brown,
CMS Reports Clearance Officer, Division of Regulations Development and Issuances, Office of Strategic Operations and Strategic Affairs.

[FR Doc. 03-13664 Filed 5-28-03; 11:17 am]

BILLING CODE 4120-03-P